DEPARTMENT OF TRANSPORTATION

Federal Railroad Administration

[Docket Number FRA-2004-17099]

Petition for Waiver of Compliance

In accordance with Part 211 of Title 49 Code of Federal Regulations (CFR), this document provides the public notice that by a document dated November 20, 2012, the Metro-North Railroad (MNR) has petitioned the Federal Railroad Administration (FRA) for a waiver of compliance from certain provisions of the Federal railroad safety regulations at 49 CFR Section 238.309(b)(3) regarding periodic brake maintenance for multiple unit (MU) locomotives and the special approval procedure under 49 CFR Section 238.21(b). This petition is filed to increase the duration of the periodic brake equipment maintenance interval for the MNR MU M8 Air Brake System (KB-CT1a) and to include by amendment this 405-unit fleet to the age exploration M7 waiver. FRA assigned the petition Docket Number FRA-2004-17099.

MNR is also requesting to exclude test requirements for all the air brake valves in the KB-CT1a (M8) System that are currently part of the KB-CT1 (M7) System. MNR requests that these components be considered to have the same standard life expectancy as determined by the M7 waiver (Docket Number FRA-2004-17099). The MNR M7 fleet is currently undergoing age exploration tests. The MNR M7 fleet is averaging 68,000 miles a year per car. The current MNR fleets that the M8 fleet is replacing average 64,000 miles a year per car, which delineates a similar wear and life expectancy to that of the M7. MNR proposes to test only those components not yet captured by the KB-CT1 (M7) age exploration testing in support of this request.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 11, 2013 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on December 20, 2012.
Robert C. Lauby,
Deputy Associate Administrator for Regulatory and Legislative Operations.

[FR Doc. 2012-31204 Filed 12-27-12; 8:45 am]

BILLING CODE 4910-06-P